DEPARTMENT OF AGRICULTURE

Forest Service, Alpine County, CA

Resource Advisory Committee

AGENCY: Forest Service, USDA.

ACTION: Notice of meeting.

SUMMARY: The Alpine County Resource Advisory Committee (RAC) will meet on April 10, 2002, in Markleeville, California. The purpose of the meeting is to discuss issues relating to implementing the Secure Rural Schools and Community Self-Determination Act of 2000 (Payments to States) and the expenditure of Title II funds benefiting National Forest System lands on the Humboldt-Toiyabe, and Stanislaus National Forests in Alpine County.

DATES: The meeting will be held April 10, 2002 at 1 p.m.

ADDRESSES: The meeting will be held at the Turtle Rock County Park, Markleeville, CA.

FOR FURTHER INFORMATION CONTACT: Laura Williams, Committee Coordinator, USDA, Humboldt-Toiyabe National Forest, 1536 S Carson St., Carson City, NV 89701, (775) 884-8150, EMAIL: ljwilliams@fs.fed.us.

SUPPLEMENTARY INFORMATION: Agenda items to be covered include: (1) Old business: Administrative functions and changes to charter including answering questions from first meeting, and addressing any new questions or concerns from committee; (2) Determine procedural process/changes; (3) Develop criteria for choosing proposals; (4) Project review and initial screening by committee; (5) New business; (6) Public comment.

The meeting is open to the public. Public input opportunity will be provided and individuals will have the opportunity to address the Committee at that time.

Dated: March 27, 2002.
Gary Schiff,
Carson District Ranger.

[FR Doc. 02-7876 Filed 4-1-02; 8:45 am]

BILLING CODE 3410-11-M